DEPARTMENT OF TRANSPORTATION

Federal Aviation Administration

14 CFR Part 39

[Docket No. FAA-2020-0334; Product Identifier 2020-NM-014-AD; Amendment 39-21165; AD 2020-15-02]

RIN 2120-AA64

Airworthiness Directives; Gulfstream Aerospace LP Airplanes

AGENCY: Federal Aviation Administration (FAA), Department of Transportation (DOT).

ACTION: Final rule.

SUMMARY: The FAA is adopting a new airworthiness directive (AD) for certain Gulfstream Aerospace LP Model Gulfstream G280 airplanes. This AD was prompted by a report of inadequate clearance between the fuel probes and forward fuel tank structure. This AD requires measuring the clearance between certain fuel probes and the forward fuel tank structure, and reinstalling the probes if necessary, as specified in a Civil Aviation Authority of Israel (CAAI) AD, which is incorporated by reference. The FAA is issuing this AD to address the unsafe condition on these products.

DATES: This AD is effective August 27, 2020.

The Director of the Federal Register approved the incorporation by reference of a certain publication listed in this AD as of August 27, 2020.

ADDRESSES: For the material incorporated by reference (IBR) in this AD, contact the CAAI, P.O. Box 1101, Golan Street, Airport City, 70100, Israel; telephone 972-3-9774665; fax 972-3-9774592; email aip@mot.gov.il. You may find this IBR material on the CAA website at www.caa.gov.il. You may view this IBR material at the FAA, Airworthiness Products Section, Operational Safety Branch, 2200 South 216th St., Des Moines, WA. For information on the availability of this material at the FAA, call 206-231-3195. It is also available in the AD docket on the internet at https://www.regulations.gov by searching for and locating Docket No. FAA-2020-0334.

Examining the AD Docket

You may examine the AD docket on the internet at https://www.regulations.gov by searching for and locating Docket No. FAA-2020-0334; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Tom Rodriguez, Aerospace Engineer, Large Aircraft Section, International Validation Branch, FAA, 2200 South 216th St., Des Moines, WA 98198; telephone and fax 206-231-3226; email tom.rodriguez@faa.gov.

SUPPLEMENTARY INFORMATION:

Discussion

The CAAI, which is the aviation authority for Israel, has issued Israeli AD ISR-I-53-19-10-5, dated October 10, 2019 (“Israeli AD ISR-I-53-19-10-5”) (also referred to as the Mandatory Continuing Airworthiness Information, or “the MCAI”), to correct an unsafe condition for certain Gulfstream Aerospace LP Model Gulfstream G280 airplanes.

The FAA issued a notice of proposed rulemaking (NPRM) to amend 14 CFR part 39 by adding an AD that would apply to certain Gulfstream Aerospace LP Model Gulfstream G280 airplanes. The NPRM published in the Federal Register on April 27, 2020 (85 FR 23259). The NPRM was prompted by a report of inadequate clearance between the fuel probes and forward fuel tank structure. The NPRM proposed to require measuring the clearance between certain fuel probes and the forward fuel tank structure, and reinstalling the probes if necessary, as specified in a CAAI AD.

The FAA is issuing this AD to address inadequate clearance between the fuel probes and forward fuel tank structure, which could result in a potential source of ignition in a fuel tank, possible fire, and consequent reduced structural integrity of the airplane. See the MCAI for additional background information.

Comments

The FAA gave the public the opportunity to participate in developing this final rule. The FAA received no comments on the NPRM or on the determination of the cost to the public.

Conclusion

The FAA reviewed the relevant data and determined that air safety and the public interest require adopting this final rule as proposed, except for minor editorial changes. The FAA has determined that these minor changes:

• Are consistent with the intent that was proposed in the NPRM for addressing the unsafe condition; and

• Do not add any additional burden upon the public than was already proposed in the NPRM.

Related IBR Material Under 1 CFR Part 51

Israeli AD ISR-I-53-19-10-5 describes procedures for checking the clearance between forward fuel probe No. 1 and aft fuel probe No. 3 and the forward fuel tank structure, by measuring each fuel probe's distance to the adjacent skin, and adjusting the clearance, including reinstallation of the fuel probes at the correct distance if necessary. This material is reasonably available because the interested parties have access to it through their normal course of business or by the means identified in the ADDRESSES section.

Costs of Compliance

The FAA estimates that this AD affects 80 airplanes of U.S. registry. The FAA estimates the following costs to comply with this AD:

Estimated Costs for Required Actions
Labor cost | Parts cost | Cost per product | Cost on U.S. operators
Up to 20 work-hours × $85 per hour = Up to $1,700 | $0 | Up to $1,700 | Up to $136,000.

According to the manufacturer, some or all of the costs of this AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2020-15-02 Gulfstream Aerospace LP: Amendment 39-21165; Docket No. FAA-2020-0334; Product Identifier 2020-NM-014-AD.

(a) Effective Date

This AD is effective August 27, 2020.

(b) Affected ADs

None.

(c) Applicability

This AD applies to certain Gulfstream Aerospace LP Model Gulfstream G280 airplanes, certificated in any category, as identified in Civil Aviation Authority of Israel (CAAI) AD ISR-I-53-19-10-5, dated October 10, 2019 (“Israeli AD ISR-I-53-19-10-5”).

(d) Subject

Air Transport Association (ATA) of America Code 53, Fuselage.

(e) Reason

This AD was prompted by a report of inadequate clearance between the fuel probes and forward fuel tank structure. The FAA is issuing this AD to address such inadequate clearance, which could result in a potential source of ignition in a fuel tank, possible fire, and consequent reduced structural integrity of the airplane.

(f) Compliance

Comply with this AD within the compliance times specified, unless already done.

(g) Requirements

Except as specified in paragraph (h) of this AD: Comply with all required actions and compliance times specified in, and in accordance with, Israeli AD ISR-I-53-19-10-5.

(h) Exceptions and Clarifications to Israeli AD ISR-I-53-19-10-5

(1) Where Israeli AD ISR-I-53-19-10-5 refers to its effective date, this AD requires using the effective date of this AD.

(2) Where Israeli AD ISR-I-53-19-10-5 requires operators to “check . . . clearance between fuel probes and forward fuel tank structure,” this AD requires measuring the specified probes' distance to the adjacent skin.

(3) Where Israeli AD ISR-I-53-19-10-5 requires operators to “adjust clearance” for the corrective action, this AD requires reinstallation of the probe at the correct distance.

(4) Israeli AD ISR-I-53-19-10-5 requires compliance “at the next suitable planned maintenance inspection within the next 36 months.” This AD requires compliance within 36 months after the effective date of this AD.

(5) The rework (reinstallation of the fuel probes at the correct distance) required for inadequate clearance must be done before further flight after the measurement.

(i) Other FAA AD Provisions

The following provisions also apply to this AD:

(1) Alternative Methods of Compliance (AMOCs): The Manager, Large Aircraft Section, International Validation Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, Large Aircraft Section, International Validation Branch, FAA; or the CAAI; or CAAI's authorized Designee. If approved by the CAAI Designee, the approval must include the Designee's authorized signature.

(j) Related Information

For more information about this AD, contact Tom Rodriguez, Aerospace Engineer, Large Aircraft Section, International Validation Branch, FAA, 2200 South 216th St., Des Moines, WA 98198; telephone and fax 206-231-3226; email tom.rodriguez@faa.gov.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) The Civil Aviation Authority of Israel (CAAI) AD ISR-I-53-19-10-5, dated October 10, 2019.

(ii) [Reserved]

(3) For information about Israeli AD ISR-I-53-19-10-5, contact the CAAI, P.O. Box 1101, Golan Street, Airport City, 70100, Israel; telephone 972-3-9774665; fax 972-3-9774592; email aip@mot.gov.il. You may find this IBR material on the CAAI website at www.caa.gov.il.

(4) You may view this material at the FAA, Airworthiness Products Section, Operational Safety Branch, 2200 South 216th St., Des Moines, WA. For information on the availability of this material at the FAA, call 206-231-3195. This material may be found in the AD docket on the internet at https://www.regulations.gov by searching for and locating Docket No. FAA-2020-0334.

(5) You may view this material that is incorporated by reference at the National Archives and Records Administration (NARA). For information on the availability of this material at NARA, email fedreg.legal@nara.gov, or go to: https://www.archives.gov/federal-register/cfr/ibr-locations.html.

Issued on July 7, 2020.
Lance T. Gant,
Director, Compliance & Airworthiness Division, Aircraft Certification Service.

[FR Doc. 2020-15819 Filed 7-22-20; 8:45 am]

BILLING CODE 4910-13-P